DEPARTMENT OF TRANSPORTATION

Federal Aviation Administration

14 CFR Part 39

[Docket No. FAA-2007-28257; Directorate Identifier 2007-NM-034-AD; Amendment 39-15171; AD 2007-17-13]

RIN 2120-AA64

Airworthiness Directives; Boeing Model 747-100, -200B, -200C, and -200F Series Airplanes

AGENCY: Federal Aviation Administration (FAA), Department of Transportation (DOT).

ACTION: Final rule.

SUMMARY: The FAA is adopting a new airworthiness directive (AD) for certain Boeing Model 747-100, -200B, -200C, and -200F series airplanes. This AD requires performing repetitive inspections for cracks in the fuselage skin at the cutout of the bulk cargo door light, and corrective actions if necessary. This AD also provides terminating action for airplanes with a certain type of damage. This AD results from a report of a 2-inch crack through the fuselage skin and internal bonded doubler at the cutout of the bulk cargo door light. We are issuing this AD to detect and correct cracks in the fuselage skin at the cutout of the bulk cargo door light, which could result in reduced structural integrity of the fuselage at the bulk cargo door and consequent rapid decompression of the fuselage.

DATES: This AD becomes effective October 2, 2007.

The Director of the Federal Register approved the incorporation by reference of a certain publication listed in the AD as of October 2, 2007.

ADDRESSES: You may examine the AD docket on the Internet at http://dms.dot.gov or in person at the U.S. Department of Transportation, Docket Operations, M-30, West Building Ground Floor, Room W12-140, 1200 New Jersey Avenue, SE., Washington, DC.

Contact Boeing Commercial Airplanes, P.O. Box 3707, Seattle, Washington 98124-2207, for service information identified in this AD.

FOR FURTHER INFORMATION CONTACT: Ivan Li, Aerospace Engineer, Airframe Branch, ANM-120S, FAA, Seattle Aircraft Certification Office, 1601 Lind Avenue SW., Renton, Washington 98057-3356; telephone (425) 917-6437; fax (425) 917-6590.

SUPPLEMENTARY INFORMATION:

Examining the Docket

You may examine the AD docket on the Internet at http://dms.dot.gov or in person at the Docket Operations office between 9 a.m. and 5 p.m., Monday through Friday, except Federal holidays. The Docket Operations office (telephone (800) 647-5527) is located on the ground floor of the West Building at the DOT street address stated in the ADDRESSES section.

Discussion

The FAA issued a notice of proposed rulemaking (NPRM) to amend 14 CFR part 39 to include an AD that would apply to certain Boeing Model 747-100, -200B, -200C, and -200F series airplanes. That NPRM was published in the Federal Register on May 24, 2007 (72 FR 29084). That NPRM proposed to require performing repetitive inspections for cracks in the fuselage skin at the cutout of the bulk cargo door light, and corrective actions if necessary. That NPRM also proposed to provide terminating action for airplanes with a certain type of damage.

Comments

We provided the public the opportunity to participate in the development of this AD. We have considered the comment received. The commenter, Boeing, supports the NPRM.

Conclusion

We have carefully reviewed the available data, including the comment received, and determined that air safety and the public interest require adopting the AD as proposed.

Costs of Compliance

There are about 65 airplanes of the affected design in the worldwide fleet. This AD affects about 36 airplanes of U.S. registry. The required actions take about 2 work hours per airplane, at an average labor rate of $80 per work hour. Based on these figures, the estimated cost of the AD for U.S. operators is $5,760, or $160 per airplane, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2007-17-13 Boeing: Amendment 39-15171. Docket No. FAA-2007-28257; Directorate Identifier 2007-NM-034-AD.

Effective Date

(a) This AD becomes effective October 2, 2007.

Affected ADs

(b) None.

Applicability

(c) This AD applies to Boeing Model 747-100, -200B, -200C, and -200F series airplanes, certificated in any category; as identified in Boeing Alert Service Bulletin 747-53A2673, dated February 8, 2007.

Unsafe Condition

(d) This AD results from a report of a 2-inch crack through the fuselage skin and internal bonded doubler at the cutout of the bulk cargo door light. We are issuing this AD to detect and correct cracks in the fuselage skin at the cutout of the bulk cargo door light, which could result in reduced structural integrity of the fuselage at the bulk cargo door and consequent rapid decompression of the fuselage.

Compliance

(e) You are responsible for having the actions required by this AD performed within the compliance times specified, unless the actions have already been done.

Inspections/Corrective Actions

(f) Before the accumulation of 20,000 total flight cycles, or within 1,500 flight cycles after the effective date of this AD, whichever is later: Perform a high frequency eddy current (HFEC) inspection for cracks in the fuselage skin at the cutout of the bulk cargo door light, in accordance with the Accomplishment Instructions of Boeing Alert Service Bulletin 747-53A2673, dated February 8, 2007. Repeat the inspection thereafter at intervals not to exceed 3,000 flight cycles.

(1) If no crack is found: Repeat the inspection required by paragraph (f) of this AD at the time specified.

(2) If any crack is found that is 2.0 inches or less in length from the edge of the light cutout forward lower corner: Before further flight, do all the corrective actions (including an additional HFEC inspection for cracks) in accordance with Part 2 of the Accomplishment Instructions of the service bulletin. Accomplishing the actions specified in Part 2 of the service bulletin ends the repetitive inspections required by paragraph (f) of this AD.

(3) If any crack is found during the inspection required by paragraph (f) of this AD that is more than 2.0 inches in total length from the edge of the light cutout forward lower corner, or is at a location other than the light cutout forward lower corner: Before further flight, repair using a method approved in accordance with the procedures specified in paragraph (g)(2) of this AD.

Alternative Methods of Compliance (AMOCs)

(g)(1) The Manager, Seattle Aircraft Certification Office (ACO), FAA, has the authority to approve AMOCs for this AD, if requested in accordance with the procedures found in 14 CFR 39.19.

(2) An AMOC that provides an acceptable level of safety may be used for any repair required by this AD, if it is approved by an Authorized Representative for the Boeing Commercial Airplanes Delegation Option Authorization Organization who has been authorized by the Manager, Seattle ACO, to make those findings. For a repair method to be approved, the repair must meet the certification basis of the airplane.

(3) To request a different method of compliance or a different compliance time for this AD, follow the procedures in 14 CFR 39.19. Before using any approved AMOC on any airplane to which the AMOC applies, notify your appropriate principal inspector (PI) in the FAA Flight Standards District Office (FSDO), or lacking a PI, your local FSDO.

Material Incorporated by Reference

(h) You must use Boeing Alert Service Bulletin 747-53A2673, dated February 8, 2007, to perform the actions that are required by this AD, unless the AD specifies otherwise. The Director of the Federal Register approved the incorporation by reference of this document in accordance with 5 U.S.C. 552(a) and 1 CFR part 51. Contact Boeing Commercial Airplanes, P.O. Box 3707, Seattle, Washington 98124-2207, for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on August 14, 2007.
Stephen P. Boyd,
Acting Manager, Transport Airplane Directorate, Aircraft Certification Service.

[FR Doc. E7-16420 Filed 8-27-07; 8:45 am]

BILLING CODE 4910-13-P